DEPARTMENT OF HEALTH AND HUMAN SERVICES

Office of the Secretary

Notice of Interest Rate on Overdue Debts

Section 30.18 of the Department of Health and Human Services' claims collection regulations (45 CFR part 30) provides that the Secretary shall charge an annual rate of interest, which is determined and fixed by the Secretary of the Treasury after considering private consumer rates of interest on the date that the Department of Health and Human Services becomes entitled to recovery. The rate cannot be lower than the Department of Treasury's current value of funds rate or the applicable rate determined from the “Schedule of Certified Interest Rates with Range of Maturities” unless the Secretary waives interest in whole or part, or a different rate is prescribed by statute, contract, or repayment agreement. The Secretary of the Treasury may revise this rate quarterly. The Department of Health and Human Services publishes this rate in the Federal Register.

The current rate of 10¾%, as fixed by the Secretary of the Treasury, is certified for the quarter ended September 30, 2010. This interest rate is effective until the Secretary of the Treasury notifies the Department of Health and Human Services of any change.

Dated: December 9, 2010.
Molly P. Dawson,
Director, Office of Financial Policy and Reporting.

[FR Doc. 2010-31979 Filed 12-20-10; 8:45 am]

BILLING CODE 4150-04-P